GENERAL SERVICES ADMINISTRATION

Federal Acquisition Institute Vendor Meeting

AGENCY: Office of the Chief Acquisition Officer, GSA.

ACTION: Notice of meeting.

SUMMARY: The Federal Acquisition Institute (FAI) will hold a vendor meeting to provide information on the recently announced Federal Acquisition Certification in Program/Project Management (FAC-P/PM) to include program details, target timeline, and opportunities for vendors to support the training of federal program and project managers.

The purpose of this certification program is to establish the competencies, training, and experience requirements for program and project managers in civilian agencies. The FAC-P/PM focuses on essential competencies needed for program and project managers; the program does not include functional or technical competencies, such as those for information technology, or agency-specific competencies. The certification requirements will be accepted by, at minimum, all civilian agencies as evidence that an employee meets the core competencies, training and experience requirements.

The FAC-P/PM is a new program announced by the Office of Federal Procurement Policy (OFPP) on April 25, 2007. At this vendor meeting, FAI will present its approach for partnering with vendors on this initiative.

DATES: The meeting will be held June 13, 2007, from 2:30 p.m. to 4 p.m.

ADDRESSES: The meeting will be held at OPM’s Auditorium located at 1900 E Street, NW., Washington, DC 20415. Register by email at maria_hernandez@sra.com, or call (703) 284-6988.

WHO SHOULD ATTEND? Training developers, vendors with Commercial-Off-The- Shelf (COTS) training products, vendors with capabilities related to the full Instructional System Design (ISD) methodologies, professional associations, educational institutions and acquisition training experts.

FOR FUTHER INFORMATION CONTACT: Ms. Maria Hernandez, by phone at 703-284-6988 or by e-mail at maria_hernandez@sra.com

Dated: May 17, 2007.
Otis Langford,
Program Manager, FAI.

[FR Doc. E7-10083 Filed 5-23-07; 8:45 am]

BILLING CODE 6820-61-S